ENVIRONMENTAL PROTECTION AGENCY

[EPA-HQ-OPP-2015-0452; FRL-9948-85]

Notice of Receipt of Requests To Voluntarily Cancel Certain Pesticide Registrations

AGENCY: Environmental Protection Agency (EPA).

ACTION: Notice.

SUMMARY: In accordance with the Federal Insecticide, Fungicide, and Rodenticide Act (FIFRA), EPA is issuing a notice of receipt of request by registrants to voluntarily cancel certain pesticide registrations and amend one pesticide registration. The amendment request would delete dodecylguanidine hydrochloride (DGH) use in disposable diapers. EPA intends to grant these requests at the close of the comment period for this announcement unless the Agency receives substantive comments within the comment period that would merit its further review of the requests, or unless the registrants withdraw their requests. If these requests are granted, any sale, distribution, or use of products listed in this notice will be permitted after the registrations have been cancelled only if such sale, distribution, or use is consistent with the terms as described in the final order.

DATES: Comments must be received on or before August 22, 2016.

ADDRESSES: Submit your comments, identified by docket identification (ID) number EPA-HQ-OPP-2015-0452, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Avenue NW., Washington, DC 20460-0001.

Submit written withdrawal request by mail to: Antimicrobials Division (7510P), Office of Pesticide Programs, Environmental Protection Agency, 1200 Pennsylvania Ave. NW., Washington, DC 20460-0001. ATTN: Rachel Ricciardi.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Rachel Ricciardi, Antimicrobials Division (7510P), Office of Pesticide Programs, Environmental Protection Agency, 1200 Pennsylvania Ave. NW., Washington, DC 20460-0001; telephone number: (703) 347-0465; email address: ricciardi.rachel@epa.gov.

SUPPLEMENTARY INFORMATION:

I. General Information

A. Does this action apply to me?

This action is directed to the public in general, and may be of interest to a wide range of stakeholders including environmental and human health advocates; the chemical industry; pesticide users; and members of the public interested in the sale, distribution, or use of pesticides. Since others also may be interested, the Agency has not attempted to describe all the specific entities that may be affected by this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the Agency taking?

This notice announces receipt by the Agency of requests from registrants to cancel 176 pesticide products registered under FIFRA section 3 (7 U.S.C. 136a) and amend one product registration for DGH by deleting the specific use listed in Table 2 of this unit. The registrations to cancel pesticide products are listed in sequence by registration number in Table 1 of this unit.

Unless the Agency determines that there are substantive comments that warrant further review of the requests or the registrants withdraw their requests, EPA intends to issue an order in the Federal Register canceling the affected registrations.

Table 1—Registrations With Pending Requests for Cancellation
Registration No. | Product name | Active ingredient
211-40 | Q4.5-5.0PB-4.5 | Alkyl * dimethyl ethylbenzyl ammonium chloride * (68%C12, 32%C14) and Alkyl * dimethyl benzyl ammonium chloride * (60%C14, 30%C16, 5%C18, 5%C12).
211-50 | Q5.5-5.5NPB-2.5HW | 1-Decanaminium, N-decyl-N,N-dimethyl-, chloride; 1-Octanaminium, N,N-dimethyl-N-octyl-, chloride; 1-Decanaminium, N,N-dimethyl-N-octyl-, chloride; and Alkyl * dimethyl benzyl ammonium chloride * (50%C14, 40%C12, 10%C16).
498-197 | Spray Disinfectant | Alkyl * dimethyl ethylbenzyl ammonium chloride * (68%C12, 32%C14); Alkyl * dimethyl benzyl ammonium chloride * (60%C14, 30%C16, 5%C18, 5%C12); and Ethanol.
777-44 | Lysol Deodorizing Cleaner | Alkyl * dimethyl benzyl ammonium chloride * (50%C14, 40%C12, 10%C16).
875-194 | Divosan Quat-Klenz | Alkyl * dimethyl ethylbenzyl ammonium chloride * (68%C12, 32%C14) and Alkyl * dimethyl benzyl ammonium chloride * (60%C12, 30%C14, 5%C16, 5%C18).
1022-592 | Secure | 1-Decanaminium, N-decyl-N,N-dimethyl-, chloride and Carbamic acid, butyl-, 3-iodo-2-propynyl ester.
1043-19 | Staphene Disinfectant Spray and Deodorizer | Alkyl * dimethyl benzyl ammonium chloride * (60%C14, 30%C16, 5%C18, 5%C12); Alkyl * dimethyl ethylbenzyl ammonium chloride * (50%C12, 30%C14, 17%C16, 3%C18); o-Phenylphenol; 4-tert-Amylphenol; 2-Benzyl-4-chlorophenol; and Ethanol.
1043-77 | Powder Keg | Alkyl * dimethyl ethylbenzyl ammonium chloride * (68%C12, 32%C14); 1-Decanaminium, N,N-dimethyl-N-octyl-, chloride; 1-Octanaminium, N,N-dimethyl-N-octyl-, chloride; 1-Decanaminium, N-decyl-N,N-dimethyl-, chloride; and Alkyl * dimethyl benzyl ammonium chloride * (60%C14, 30%C16, 5%C18, 5%C12).
1258-1275 | A-Breeze Solid PHMB | Poly(iminoimidocarbonyliminoimidocarbonyliminohexamethylene) hydrochloride.
1258-1277 | Vantocil S Microbiocide | Poly(iminoimidocarbonyliminoimidocarbonyliminohexamethylene) hydrochloride.
1258-1325 | Baquacide 795 Swimming Pool Algicide | 1-Decanaminium, N-decyl-N,N-dimethyl-, chloride.
1459-72 | Bullen Ready To Use Disinfectant | Alkyl * dimethyl benzyl ammonium chloride * (60%C14, 30%C16, 5%C18, 5%C12) and Alkyl * dimethyl ethylbenzyl ammonium chloride * (68%C12, 32%C14).
1677-205 | A-215 | Glutaraldehyde.
1677-206 | A-245 | Glutaraldehyde.
1839-85 | Aerosol Surface Disinfectant | Alkyl * dimethyl benzyl ammonium chloride * (60%C14, 30%C16, 5%C18, 5%C12); Alkyl * dimethyl ethylbenzyl ammonium chloride * (68%C12, 32%C14); and Isopropyl alcohol.
1839-102 | CD 4.5 (D & F) | Alkyl * dimethyl ethylbenzyl ammonium chloride * (68%C12, 32%C14) and Alkyl * dimethyl benzyl ammonium chloride * (60%C14, 30%C16, 5%C18, 5%C12).
1839-112 | PT 4.0 Pine Scent Disinfectant/Detergent | Alkyl * dimethyl benzyl ammonium chloride * (60%C14, 30%C16, 5%C18, 5%C12); Alkyl * dimethyl ethylbenzyl ammonium chloride * (68%C12, 32%C14); and Pine Oil.
1839-128 | BTC 99 | 1-Decanaminium, N-decyl-N,N-dimethyl-, chloride.
1839-138 | 10% BTC 99 Industrial Water Cooling Tower Algaecide | 1-Decanaminium, N-decyl-N,N-dimethyl-, chloride.
1839-188 | Aerosol SDAS | Alkyl * dimethyl benzyl ammonium chloride * (60%C14, 30%C16, 5%C18, 5%C12); Isopropyl alcohol; Triethylene glycol; and Alkyl * dimethyl ethylbenzyl ammonium chloride * (68%C12, 32%C14).
2296-102 | NAC Pine Odor Disinfectant | Pine oil and 2-Benzyl-4-chlorophenol.
2296-104 | NACA Pine Oil Disinfectant | Pine oil.
2296-105 | Pine-Act | Pine oil and 2-Benzyl-4-chlorophenol.
2296-112 | Mint Quat | 1-Decanaminium, N-decyl-N,N-dimethyl-, chloride and Alkyl * dimethyl benzyl ammonium chloride * (50%C14, 40%C12, 10%C16).
3573-69 | Z-1 | 1-Decanaminium, N-decyl-N,N-dimethyl-, chloride.
3573-74 | Cougar | 1-Decanaminium, N-decyl-N,N-dimethyl-, chloride and Chlorhexidine diacetate.
3862-11 | Pine Odor Disinfectant | Pine oil and Sodium 2-benzyl-4-chlorophenate.
3862-76 | Lemon DS-32 | Alkyl * dimethyl benzyl ammonium chloride * (60%C14, 30%C16, 5%C18, 5%C12) and Alkyl * dimethyl ethylbenzyl ammonium chloride * (50%C12, 30%C14, 17%C16, 3%C18).
4313-93 | Ocide Plus | Alkyl * dimethyl ethylbenzyl ammonium chloride * (68%C12, 32%C14); Alkyl * dimethyl benzyl ammonium chloride * (60%C14, 30%C16, 5%C18, 5%C12); and Ethanol.
4822-554 | AD-SS-06 | 1-Decanaminium, N-decyl-N,N-dimethyl-, chloride.
5736-61 | HDC V2 1:64 | Alkyl * dimethyl benzyl ammonium chloride * (50%C14, 40%C12, 10%C16) and 1-Decanaminium, N-decyl-N,N-dimethyl-, chloride.
5736-104 | Hospital Disinfectant Cleaner | Alkyl * dimethyl benzyl ammonium chloride * (50%C14, 40%C12, 10%C16) and 1-Decanaminium, N-decyl-N,N-dimethyl-, chloride.
5736-105 | Liquid Disinfectant Cleaner | Alkyl * dimethyl ethylbenzyl ammonium chloride * (68%C12, 32%C14) and Alkyl * dimethyl benzyl ammonium chloride * (60%C14, 30%C16, 5%C18, 5%C12).
5736-106 | Foaming Aerosol Disinfectant Cleaner | Alkyl * dimethyl ethylbenzyl ammonium chloride * (68%C12, 32%C14) and Alkyl * dimethyl benzyl ammonium chloride * (60%C14, 30%C16, 5%C18, 5%C12).
5741-16 | PSQ Disinfectant Cleaner | 1-Decanaminium, N,N-dimethyl-N-octyl-, chloride; 1-Octanaminium, N,N-dimethyl-N-octyl-, chloride; 1-Decanaminium, N-decyl-N,N-dimethyl-, chloride; and Alkyl * dimethyl benzyl ammonium chloride * (50%C14, 40%C12, 10%C16).
5813-28 | Pine-Sol | Pine oil.
5813-33 | Clean-O-Pine Cone Concentrated Disinfectant | Pine oil.
5813-36 | Pine Sol Cleaner Disinfectant | Pine oil.
5813-41 | Clorox Pine Oil | Pine oil.
5813-54 | Pine-Sol Cleaner Disinfectant 1 | Pine oil.
5813-56 | Pine-Sol Cleaner Disinfectant 6 | Pine oil.
5813-83 | Clorox Losenip | Pine oil.
6198-11 | Q-IV | 1-Decanaminium, N-decyl-N,N-dimethyl-, chloride.
6243-3 | Auto-chlor DS-33 | Alkyl * dimethyl benzyl ammonium chloride * (50%C14, 40%C12, 10%C16).
6718-24 | Amway Pursue Disinfectant Cleaner | 1-Decanaminium, N-decyl-N,N-dimethyl-, chloride.
6836-18 | Bardac-22 | 1-Decanaminium, N-decyl-N,N-dimethyl-, chloride.
6836-19 | Bardac-20 | 1-Decanaminium, N,N-dimethyl-N-octyl-, chloride; 1-Octanaminium, N,N-dimethyl-N-octyl-, chloride; and 1-Decanaminium, N-decyl-N,N-dimethyl-, chloride.
6836-28 | Lonza Disinfectant Cleaner (19-A) | 1-Decanaminium, N-decyl-N,N-dimethyl-, chloride.
6836-30 | Lonza Mildew Preventative | 1-Decanaminium, N-decyl-N,N-dimethyl-, chloride.
6836-41 | Lonza Mildew Preventative B-20 | 1-Decanaminium, N,N-dimethyl-N-octyl-, chloride; 1-Decanaminium, N-decyl-N,N-dimethyl-, chloride; and 1-Octanaminium, N,N-dimethyl-N-octyl-, chloride.
6836-48 | Bardac 2250-7.5 | 1-Decanaminium, N-decyl-N,N-dimethyl-, chloride.
6836-68 | Bardac 20W | 1-Decanaminium, N,N-dimethyl-N-octyl-, chloride; 1-Decanaminium, N-decyl-N,N-dimethyl-, chloride; and 1-Octanaminium, N,N-dimethyl-N-octyl-, chloride.
6836-74 | Lonza Formulation S-39 | 1-Decanaminium, N,N-dimethyl-N-octyl-, chloride; 1-Decanaminium, N-decyl-N,N-dimethyl-, chloride; 1-Octanaminium, N,N-dimethyl-N-octyl-, chloride; and Alkyl * dimethyl benzyl ammonium chloride * (50%C14, 40%C12, 10%C16).
6836-87 | Lonza DC-102 Quaternary Pine Oil | 1-Decanaminium, N,N-dimethyl-N-octyl-, chloride; 1-Octanaminium, N,N-dimethyl-N-octyl-, chloride; 1-Decanaminium, N-decyl-N,N-dimethyl-, chloride; Alkyl * dimethyl benzyl ammonium chloride * (50%C14, 40%C12, 10%C16); and Pine oil.
6836-89 | 205M Sanitizer | 1-Decanaminium, N,N-dimethyl-N-octyl-, chloride; 1-Octanaminium, N,N-dimethyl-N-octyl-, chloride; 1-Decanaminium, N-decyl-N,N-dimethyl-, chloride; and Alkyl * dimethyl benzyl ammonium chloride * (50%C14, 40%C12, 10%C16).
6836-108 | Lonza Carpet Sanitizer CS-202 | 1-Decanaminium, N,N-dimethyl-N-octyl-, chloride; 1-Decanaminium, N-decyl-N,N-dimethyl-, chloride; 1-Octanaminium, N,N-dimethyl-N-octyl-, chloride; and Alkyl * dimethyl benzyl ammonium chloride * (50%C14, 40%C12, 10%C16).
6836-163 | Bio-Quat 50-MAB | Alkyl * dimethyl ethyl ammonium bromide * (90% C14, 5% C16, 5% C12).
6836-167 | Bio-Guard M-7 Disinfectant | Alkyl * dimethyl benzyl ammonium chloride * (58%C14, 28%C16, 14%C12).
6836-204 | Lonza Formulation DC-110N | 1-Decanaminium, N-decyl-N,N-dimethyl-, chloride.
6836-205 | Lonza Formulation DC-108N | 1-Decanaminium, N-decyl-N,N-dimethyl-, chloride.
6836-206 | Lonza Formulation DC-109N | 1-Decanaminium, N-decyl-N,N-dimethyl-, chloride.
6836-231 | Jordaquat 358 | Alkyl * dimethyl benzyl ammonium chloride * (50%C14, 40%C12, 10%C16).
6836-267 | Lonza Formulation DCN 400-256 | 1-Decanaminium, N-decyl-N,N-dimethyl-, chloride.
6836-268 | Lonza Formulation DCN 400-128 | 1-Decanaminium, N-decyl-N,N-dimethyl-, chloride.
6836-269 | Lonza Formulation DCN 400-64 | 1-Decanaminium, N-decyl-N,N-dimethyl-, chloride.
7124-39 | Pool Brite Winterizer | Alkyl * dimethyl benzyl ammonium chloride * (60%C14, 30%C16, 5%C18, 5%C12); Dialkyl * methyl benzyl ammonium chloride * (60% C14, 30% C16, 5% C18, 5% C12); and EDTA, copper salt.
7124-105 | Poly Clear | Poly(iminoimidocarbonyliminoimidocarbonyliminohexamethylene) hydrochloride.
7364-37 | Green Algae Treatment | 1-Decanaminium, N-decyl-N,N-dimethyl-, chloride.
7405-39 | Chemi-Cap Germicidal Multi-Purpose Cleaner | Alkyl * dimethyl benzyl ammonium chloride * (60%C14, 30%C16, 5%C18, 5%C12) and Alkyl * dimethyl ethylbenzyl ammonium chloride * (50%C12, 30%C14, 17%C16, 3%C18).
8155-12 | Sanitizer Virucidal Husky 803 S/V Disinfectant | 1-Decanaminium, N,N-dimethyl-N-octyl-, chloride; 1-Octanaminium, N,N-dimethyl-N-octyl-, chloride; 1-Decanaminium, N-decyl-N,N-dimethyl-, chloride; and Alkyl * dimethyl benzyl ammonium chloride * (50%C14, 40%C12, 10%C16).
8155-17 | Carpet Sanitizer Husky C/S Carpet Extraction Concentrate | 1-Decanaminium, N,N-dimethyl-N-octyl-, chloride; 1-Decanaminium, N-decyl-N,N-dimethyl-, chloride; 1-Octanaminium, N,N-dimethyl-N-octyl-, chloride; and Alkyl * dimethyl benzyl ammonium chloride * (50%C14, 40%C12, 10%C16).
8155-19 | *New Power Husky 315 *N/P Bowl Cleaner | Alkyl * dimethyl ethylbenzyl ammonium chloride * (68%C12, 32%C14); Alkyl * dimethyl benzyl ammonium chloride * (60%C14, 30%C16, 5%C18, 5%C12); and Hydrochloric acid.
8155-22 | Husky 805 C/D | 1-Decanaminium, N-decyl-N,N-dimethyl-, chloride.
8155-23 | Husky 806 H/D/N | 1-Decanaminium, N-decyl-N,N-dimethyl-, chloride.
8155-24 | Husky 800 N/D | 1-Decanaminium, N-decyl-N,N-dimethyl-, chloride.
9613-5 | Crystal—Aqua Swimming Pool Algaecide | Alkyl * dimethyl benzyl ammonium chloride * (60%C14, 25%C12, 15%C16).
9613-13 | Bison SP-5 Swimming Pool Algaecide | Alkyl * dimethyl benzyl ammonium chloride * (60%C14, 25%C12, 15%C16).
9688-287 | Chemsico Insecticide RTU LG | o-Phenylphenol, sodium salt and lambda-Cyhalothrin.
9886-2 | Unipine 85 | Pine oil.
9886-4 | Unipine 80 | Pine oil.
9886-10 | Unipine 60 | Pine oil.
9886-12 | Uniclean 30/60 | Pine oil.
9886-16 | Uniclean 19.9/60 | Pine oil.
9886-17 | Uniclean 19.9/85 | Pine oil.
10088-101 | Bafix Germicidal Spray and Wipe Bathroom Cleaner | Alkyl * dimethyl ethylbenzyl ammonium chloride * (50%C12, 30%C14, 17%C16, 3%C18) and Alkyl * dimethyl benzyl ammonium chloride * (60%C14, 30%C16, 5%C18, 5%C12).
10088-102 | Wint Mint Disinfectant | Alkyl * dimethyl ethylbenzyl ammonium chloride * (50%C12, 30%C14, 17%C16, 3%C18) and Alkyl * dimethyl benzyl ammonium chloride * (60%C14, 30%C16, 5%C18, 5%C12).
10324-20 | Maquat LC-12S-10% | Alkyl * dimethyl benzyl ammonium chloride * (67%C12, 25%C14, 7%C16, 1%C18).
10324-39 | Maquat MQ2525M-P40 | Alkyl * dimethyl ethylbenzyl ammonium chloride * (68%C12, 32%C14) and Alkyl * dimethyl benzyl ammonium chloride * (60%C14, 30%C16, 5%C18, 5%C12).
10324-49 | Maquat LC12-50% | Alkyl * dimethyl benzyl ammonium chloride * (67%C12, 25%C14, 7%C16, 1%C8, C10, and C18).
10324-64 | Maquat 3.8-MN | 1-Decanaminium, N-decyl-N,N-dimethyl-, chloride; 1-Decanaminium, N,N-dimethyl-N-octyl-, chloride; 1-Octanaminium, N,N-dimethyl-N-octyl-, chloride; and Alkyl * dimethyl benzyl ammonium chloride * (50%C14, 40%C12, 10%C16).
10324-65 | Maquat 80 | Alkyl * dimethyl ethylbenzyl ammonium chloride * (68%C12, 32%C14) and Alkyl * dimethyl benzyl ammonium chloride * (60%C14, 30%C16, 5%C18, 5%C12).
10324-68 | Maquat TC76-50% P | Dialkyl * methyl benzyl ammonium chloride * (60% C14, 30% C16, 5% C18, 5% C12) and Alkyl * dimethyl benzyl ammonium chloride * (60%C14, 30%C16, 5%C18, 5%C12).
10324-73 | Maquat MQ615-CT | 1-Decanaminium, N-decyl-N,N-dimethyl-, chloride; 1-Octanaminium, N,N-dimethyl-N-octyl-, chloride; 1-Decanaminium, N,N-dimethyl-N-octyl-, chloride; and Alkyl * dimethyl benzyl ammonium chloride * (50%C14, 40%C12, 10%C16).
10324-76 | Maquat MC6025-10% | Alkyl * dimethyl benzyl ammonium chloride * (60%C14, 25%C12, 15%C16).
10324-77 | Maquat 50-CT | Alkyl * dimethyl ethylbenzyl ammonium chloride * (68%C12, 32%C14) and Alkyl * dimethyl benzyl ammonium chloride * (60%C14, 30%C16, 5%C18, 5%C12).
10324-78 | Maquat 75 | Dialkyl * methyl benzyl ammonium chloride * (60% C14, 30% C16, 5% C18, 5% C12) and Alkyl * dimethyl benzyl ammonium chloride * (60%C14, 30%C16, 5%C18, 5%C12).
10324-79 | Maquat 3.8-M | 1-Decanaminium, N-decyl-N,N-dimethyl-, chloride; 1-Decanaminium, N,N-dimethyl-N-octyl-, chloride; 1-Octanaminium, N,N-dimethyl-N-octyl-, chloride; and Alkyl * dimethyl benzyl ammonium chloride * (50%C14, 40%C12, 10%C16).
10324-82 | Maquat 1.8-M | 1-Decanaminium, N-decyl-N,N-dimethyl-, chloride; 1-Decanaminium, N,N-dimethyl-N-octyl-, chloride; 1-Octanaminium, N,N-dimethyl-N-octyl-, chloride; and Alkyl * dimethyl benzyl ammonium chloride * (50%C14, 40%C12, 10%C16).
10324-83 | Maquat 7.0-M | 1-Decanaminium, N-decyl-N,N-dimethyl-, chloride; 1-Octanaminium, N,N-dimethyl-N-octyl-, chloride; 1-Decanaminium, N,N-dimethyl-N-octyl-, chloride; and Alkyl * dimethyl benzyl ammonium chloride * (50%C14, 40%C12, 10%C16).
10324-84 | Maquat 2.5-M | 1-Decanaminium, N-decyl-N,N-dimethyl-, chloride; 1-Octanaminium, N,N-dimethyl-N-octyl-, chloride; 1-Decanaminium, N,N-dimethyl-N-octyl-, chloride; and Alkyl * dimethyl benzyl ammonium chloride * (50%C14, 40%C12, 10%C16).
10324-86 | Maquat 2.56-M | 1-Decanaminium, N-decyl-N,N-dimethyl-, chloride; 1-Octanaminium, N,N-dimethyl-N-octyl-, chloride; Alkyl * dimethyl benzyl ammonium chloride * (50%C14, 40%C12, 10%C16); and 1-Decanaminium, N,N-dimethyl-N-octyl-, chloride.
10324-90 | Maquat LC12S | Alkyl * dimethyl benzyl ammonium chloride * (67%C12, 25%C14, 7%C16, 1%C18).
10324-102 | Maquat MQ2525M-10% S&W | Alkyl * dimethyl ethylbenzyl ammonium chloride * (68%C12, 32%C14) and Alkyl * dimethyl benzyl ammonium chloride * (60%C14, 30%C16, 5%C18, 5%C12).
10324-109 | Maquat 615-LR | 1-Decanaminium, N-decyl-N,N-dimethyl-, chloride; 1-Decanaminium, N,N-dimethyl-N-octyl-, chloride; 1-Octanaminium, N,N-dimethyl-N-octyl-, chloride; and Alkyl * dimethyl benzyl ammonium chloride * (50%C14, 40%C12, 10%C16).
10324-118 | Maquat 256 EBC | Alkyl * dimethyl ethylbenzyl ammonium chloride * (68%C12, 32%C14) and Alkyl * dimethyl benzyl ammonium chloride * (60%C14, 30%C16, 5%C18, 5%C12).
10324-119 | Maquat 128 EBC | Alkyl * dimethyl ethylbenzyl ammonium chloride * (68%C12, 32%C14) and Alkyl * dimethyl benzyl ammonium chloride * (60%C14, 30%C16, 5%C18, 5%C12).
10324-120 | Maquat 64 EBC | Alkyl * dimethyl ethylbenzyl ammonium chloride * (68%C12, 32%C14) and Alkyl * dimethyl benzyl ammonium chloride * (60%C14, 30%C16, 5%C18, 5%C12).
10324-124 | Pine Odor D-Synfect 7 Disinfectant Cleaner Deodorant | Pine oil and Alkyl * dimethyl benzyl ammonium chloride * (58%C14, 28%C16, 14%C12).
10324-131 | Maquat A | 1-Decanaminium, N-decyl-N,N-dimethyl-, chloride; 1-Octanaminium, N,N-dimethyl-N-octyl-, chloride; 1-Decanaminium, N,N-dimethyl-N-octyl-, chloride; and Alkyl * dimethyl benzyl ammonium chloride * (50%C14, 40%C12, 10%C16).
10324-134 | Maquat 256-1010N | 1-Decanaminium, N-decyl-N,N-dimethyl-, chloride.
10324-143 | Maquat 10-B | Alkyl * dimethyl ethylbenzyl ammonium chloride * (68%C12, 32%C14) and Alkyl * dimethyl benzyl ammonium chloride * (60%C14, 30%C16, 5%C18, 5%C12).
10324-144 | Maquat 256 MN-FCS | 1-Decanaminium, N-decyl-N,N-dimethyl-, chloride; 1-Decanaminium, N,N-dimethyl-N-octyl-, chloride; 1-Octanaminium, N,N-dimethyl-N-octyl-, chloride; and Alkyl * dimethyl benzyl ammonium chloride * (50%C14, 40%C12, 10%C16).
10324-146 | Maquat 128-1010N | 1-Decanaminium, N-decyl-N,N-dimethyl-, chloride.
10324-147 | Maquat 64-1010N | 1-Decanaminium, N-decyl-N,N-dimethyl-, chloride.
10324-163 | Maquat 12 MN | 1-Decanaminium, N-decyl-N,N-dimethyl-, chloride; 1-Decanaminium, N,N-dimethyl-N-octyl-, chloride; 1-Octanaminium, N,N-dimethyl-N-octyl-, chloride; and Alkyl * dimethyl benzyl ammonium chloride * (50%C14, 40%C12, 10%C16).
10324-168 | Maquat 615 SRTU-200 | 1-Decanaminium, N-decyl-N,N-dimethyl-, chloride; 1-Decanaminium, N,N-dimethyl-N-octyl-, chloride; 1-Octanaminium, N,N-dimethyl-N-octyl-, chloride; and Alkyl * dimethyl benzyl ammonium chloride * (50%C14, 40%C12, 10%C16).
10324-170 | Maquat 64-PDX | Alkyl * dimethyl ethylbenzyl ammonium chloride * (68%C12, 32%C14) and Alkyl * dimethyl benzyl ammonium chloride * (60%C14, 30%C16, 5%C18, 5%C12).
10324-171 | Maquat 128-PD-X | Alkyl * dimethyl ethylbenzyl ammonium chloride * (68%C12, 32%C14) and Alkyl * dimethyl benzyl ammonium chloride * (60%C14, 30%C16, 5%C18, 5%C12).
10324-172 | Maquat 128-X | Alkyl * dimethyl ethylbenzyl ammonium chloride * (68%C12, 32%C14) and Alkyl * dimethyl benzyl ammonium chloride * (60%C14, 30%C16, 5%C18, 5%C12).
10324-173 | Maquat 64-X | Alkyl * dimethyl ethylbenzyl ammonium chloride * (68%C12, 32%C14) and Alkyl * dimethyl benzyl ammonium chloride * (60%C14, 30%C16, 5%C18, 5%C12).
10324-179 | Maquat 32 MN-FCS | 1-Decanaminium, N-decyl-N,N-dimethyl-, chloride; 1-Decanaminium, N,N-dimethyl-N-octyl-, chloride; 1-Octanaminium, N,N-dimethyl-N-octyl-, chloride; and Alkyl * dimethyl benzyl ammonium chloride * (50%C14, 40%C12, 10%C16).
10324-180 | Maquat 64 MN-FCS | 1-Decanaminium, N-decyl-N,N-dimethyl-, chloride; 1-Decanaminium, N,N-dimethyl-N-octyl-, chloride; 1-Octanaminium, N,N-dimethyl-N-octyl-, chloride; and Alkyl * dimethyl benzyl ammonium chloride * (50%C14, 40%C12, 10%C16).
10324-181 | Maquat 128 MN-FCS | 1-Decanaminium, N-decyl-N,N-dimethyl-, chloride; 1-Decanaminium, N,N-dimethyl-N-octyl-, chloride; 1-Octanaminium, N,N-dimethyl-N-octyl-, chloride; and Alkyl * dimethyl benzyl ammonium chloride * (50%C14, 40%C12, 10%C16).
10324-183 | Maquat Deter Antimicrobial Agent | Alkyl * dimethyl ethylbenzyl ammonium chloride * (68%C12, 32%C14) and Alkyl * dimethyl benzyl ammonium chloride * (60%C14, 30%C16, 5%C18, 5%C12).
10324-189 | Maquat 21.3-NHQ | 1-Decanaminium, N-decyl-N,N-dimethyl-, chloride and Alkyl * dimethyl benzyl ammonium chloride * (50%C14, 40%C12, 10%C16).
10324-190 | Maquat 14.0-M | 1-Decanaminium, N-decyl-N,N-dimethyl-, chloride; Alkyl * dimethyl benzyl ammonium chloride * (50%C14, 40%C12, 10%C16); 1-Decanaminium, N,N-dimethyl-N-octyl-, chloride; and 1-Octanaminium, N,N-dimethyl-N-octyl-, chloride.
10324-191 | Maquat 3.5-M | 1-Decanaminium, N-decyl-N,N-dimethyl-, chloride; Alkyl * dimethyl benzyl ammonium chloride * (50%C14, 40%C12, 10%C16); 1-Decanaminium, N,N-dimethyl-N-octyl-, chloride; and 1-Octanaminium, N,N-dimethyl-N-octyl-, chloride.
10324-192 | Maquat 1.75-M | 1-Decanaminium, N-decyl-N,N-dimethyl-, chloride; Alkyl * dimethyl benzyl ammonium chloride * (50%C14, 40%C12, 10%C16); 1-Decanaminium, N,N-dimethyl-N-octyl-, chloride; and 1-Octanaminium, N,N-dimethyl-N-octyl-, chloride.
10324-193 | Maquat LC12S-40%-LF | Alkyl * dimethyl benzyl ammonium chloride * (67%C12, 25%C14, 7%C16, 1%C18).
10324-202 | Maquat 25.6-X | Alkyl * dimethyl ethylbenzyl ammonium chloride * (68%C12, 32%C14) and Alkyl * dimethyl benzyl ammonium chloride * (60%C14, 30%C16, 5%C18, 5%C12).
10324-204 | Maquat LC12S-50% EUFC | Alkyl * dimethyl benzyl ammonium chloride * (67%C12, 25%C14, 7%C16, 1%C18).
10324-205 | Maquat LC12S-10%FC | Alkyl * dimethyl benzyl ammonium chloride * (67%C12, 25%C14, 7%C16, 1%C18).
10324-213 | Maquat 7.5-S | 1-Decanaminium, N-decyl-N,N-dimethyl-, chloride; Alkyl * dimethyl benzyl ammonium chloride * (50%C14, 40%C12, 10%C16); 1-Octanaminium, N,N-dimethyl-N-octyl-, chloride; and 1-Decanaminium, N,N-dimethyl-N-octyl-, chloride.
10324-215 | Bol Maid | 1-Decanaminium, N-decyl-N,N-dimethyl-, chloride; 1-Octanaminium, N,N-dimethyl-N-octyl-, chloride; Alkyl * dimethyl benzyl ammonium chloride * (50%C14, 40%C12, 10%C16); 1-Decanaminium, N,N-dimethyl-N-octyl-, chloride; and Hydrochloric acid.
10324-216 | Betco Pull | 1-Decanaminium, N-decyl-N,N-dimethyl-, chloride; 1-Octanaminium, N,N-dimethyl-N-octyl-, chloride; 1-Decanaminium, N,N-dimethyl-N-octyl-, chloride; Alkyl * dimethyl benzyl ammonium chloride * (50%C14, 40%C12, 10%C16); and Hydrochloric acid.
11668-10 | T & R Brand Pine Disinfectant | Pine oil.
11668-13 | El Pinol 60 | Pine oil.
11694-88 | Do It All Germicidal Foaming Cleaner | Alkyl * dimethyl ethylbenzyl ammonium chloride * (68%C12, 32%C14) and Alkyl * dimethyl benzyl ammonium chloride * (60%C14, 30%C16, 5%C18, 5%C12).
11694-98 | Medaphene Plus Disinfectant Deodorant | o-Phenylphenol and Ethanol.
15136-10 | Med-Chem Germicidal Solution | Sodium carbonate and Alkyl * dimethyl benzyl ammonium chloride * (50%C14, 40%C12, 10%C16).
15300-8 | Chemtreat CL-200 | Alkyl * dimethyl ethylbenzyl ammonium chloride * (68%C12, 32%C14) and Alkyl * dimethyl benzyl ammonium chloride * (60%C14, 30%C16, 5%C18, 5%C12).
39967-96 | N-1386 Technical | Bis(trichloromethyl) sulfone.
39967-97 | N-1386 Hexylene Glycol | Bis(trichloromethyl) sulfone.
39967-109 | N-1386 PEG-EU 20 | Bis(trichloromethyl) sulfone.
41550-1 | R.P.S. Humidifier Bacteria-Algae Treatment | Alkyl * dimethyl ethylbenzyl ammonium chloride * (68%C12, 32%C14) and Alkyl * dimethyl benzyl ammonium chloride * (60%C14, 30%C16, 5%C18, 5%C12).
47033-12 | AQB-004 Microbiocide | Alkyl * dimethyl benzyl ammonium chloride * (50%C14, 40%C12, 10%C16).
47371-23 | FMB 210-15 Quat Concentrated Germicide | 1-Decanaminium, N-decyl-N,N-dimethyl-, chloride.
47371-47 | FMB 210-8 Quat | 1-Decanaminium, N-decyl-N,N-dimethyl-, chloride.
47371-52 | HS-210 Mildew Preventative | 1-Decanaminium, N-decyl-N,N-dimethyl-, chloride.
47371-53 | Formulation HS 210-15 | 1-Decanaminium, N-decyl-N,N-dimethyl-, chloride.
47371-58 | HS-210 Swimming Pool Algaecide | 1-Decanaminium, N-decyl-N,N-dimethyl-, chloride.
47371-59 | FMB 210-100 Quat Concentrated Germicide | 1-Decanaminium, N-decyl-N,N-dimethyl-, chloride.
47371-71 | Huntington FMB 302-8 Quat Concentrated Germicide | 1-Decanaminium, N,N-dimethyl-N-octyl-, chloride; 1-Decanaminium, N-decyl-N,N-dimethyl-, chloride; and 1-Octanaminium, N,N-dimethyl-N-octyl-, chloride.
47371-86 | TB-A23 Disinfectant Bowl Cleaner | 1-Decanaminium, N-decyl-N,N-dimethyl-, chloride and Hydrochloric acid.
47371-87 | TB-A32 Disinfectant Bowl Cleaner | 1-Decanaminium, N-decyl-N,N-dimethyl-, chloride and Hydrochloric acid.
49827-2 | Pine Glo | Pine oil.
51219-1 | Refresh | BTC 1100.
51219-3 | ACTABS | BTC 1100.
51219-4 | ACTABS XX | BTC 1100.
53053-5 | Envirosystems Bioshield 7200 | 1-Octadecanaminium, N,N-dimethyl-N-(3-(trimethoxysilyl)propyl)-, chloride.
53053-6 | Envirosystems Proshield 5000 | 1-Octadecanaminium, N,N-dimethyl-N-(3-(trimethoxysilyl)propyl)-, chloride.
53053-7 | Envirosystems Bioshield 75 | 1-Octadecanaminium,N,N-dimethyl-N-[3-(trihydroxysilyl)propyl],chloride.
53053-8 | Envirosystems Proshield 5000D | 1-Octadecanaminium, N,N-dimethyl-N-(3-(trimethoxysilyl)propyl)-, chloride.
55195-4 | Coldcide 0.25% Disinfecting Wipes | o-Phenylphenol; 4-tert-Amylphenol; and Glutaraldehyde.
58044-3 | Consan Triple Action 20 | Alkyl * dimethyl benzyl ammonium chloride * (50%C12, 30%C14, 17%C16, 3%C18); Alkyl * dimethyl ethylbenzyl ammonium chloride * (50%C12, 30%C14, 17%C16, 3%C18); and Alkyl * dimethyl benzyl ammonium chloride * (60%C14, 30%C16, 5%C18, 5%C12).
60061-78 | NP-1 Plus Saptain Control Chemical | 1-Decanaminium, N-decyl-N,N-dimethyl-, chloride and Carbamic acid, butyl-, 3-iodo-2-propynyl ester.
66243-3 | Clean Control Corp | 1-Decanaminium, N,N-dimethyl-N-octyl-, chloride; 1-Decanaminium, N-decyl-N,N-dimethyl-, chloride; 1-Octanaminium, N,N-dimethyl-N-octyl-, chloride; and Alkyl * dimethyl benzyl ammonium chloride * (50%C14, 40%C12, 10%C16).
67619-15 | Needle | Pine oil.
67619-19 | Snip | Pine oil.
70627-3 | NADBC-101 | Alkyl * dimethyl benzyl ammonium chloride * (60%C14, 30%C16, 5%C18, 5%C12) and Alkyl * dimethyl ethylbenzyl ammonium chloride * (68%C12, 32%C14).
70627-10 | Johnson's Forward Cleaner | Alkyl * dimethyl benzyl ammonium chloride * (50%C14, 40%C12, 10%C16).
70627-21 | Virex II/128 | Alkyl * dimethyl benzyl ammonium chloride * (50%C14, 40%C12, 10%C16) and 1-Decanaminium, N-decyl-N,N-dimethyl-, chloride.
70627-55 | Closure Central 25 | Sodium chlorite.
74655-6 | Spectrum RX-38 | Bis(trichloromethyl) sulfone and Methylene bis(thiocyanate).
84398-1 | CZL Oxidize 7.5 | Sodium chlorite.
86130-5 | FCB-15 | Alkyl * dimethyl benzyl ammonium chloride * (50%C14, 40%C12, 10%C16); 1-Decanaminium, N-decyl-N,N-dimethyl-, chloride; and Glutaraldehyde.

Table 2—Product Registration With Pending Use Deletion
Registration No. | Product name | Active ingredient | Use to be deleted
39967-107 | N-2000 Antimicrobial | Dodecylguanidine hydrochloride | Disposable diapers.

Table 3 of this unit includes the names and addresses of record for all registrants of the products in Table 1 and Table 2 of this unit, in sequence by EPA company number. This number corresponds to the first part of the EPA registration numbers of the products listed in Table 1 and Table 2 of this unit.

Table 3—Registrants Requesting Voluntary Cancellation
EPA Company No. | Company name and address
211 | Central Solutions, Inc., 401 Funston Road, Kansas City, KS 66115.
498 | Chase Products Co., P.O. Box 70, Maywood, IL 60153.
777 | Reckitt Benckiser, LLC., 399 Interpace Parkway, Parsippany, NJ 07054.
875 | Diversey, Inc., 8310 16th Street, MS 707, Sturtevant, WI 53177.
1022 | IBC Manufacturing Co., 416 E. Brooks Road, Memphis, TN 38109.
1043 | Steris Corporation, P.O. Box 147, St. Louis, MO 63166.
1258 | Arch Chemicals, Inc., 1200 Bluegrass Lakes Parkway, Alpharetta, GA 30004.
1459 | The Bullen Companies, 1640 Delmar Drive, P.O. Box 37, Folcroft, PA 19032.
1677 | Ecolab, Inc., 370 North Wabasha Street, St. Paul, MN 55102.
1839 | Stepan Company, 22 W. Frontage Road, Northfield, IL 60093.
2296 | National Chemical Laboratories, Inc., 401 N. 10th Street, Philadelphia, PA 19123.
3573 | The Proctor & Gamble Company, 5299 Spring Grove Avenue, F&HC PS&RA, Cincinnati, OH 45217.
3862 | ABC Compounding Co., Inc, P.O. Box 16247, Atlanta, GA 30321.
4313 | Carroll Company, 2900 W. Kingsley Road, Garland, TX 75041.
4822 | S.C. Johnson & Son Inc., 1525 Howe Street, Racine, WI 53403.
5736 | Diversey, Inc., 8310 16th Street, MS 707, Sturtevant, WI 53177.
5741 | Spartan Chemical Company, Inc., 1110 Spartan Drive, Maumee, OH 43537.
5813 | Clorox Co., The, P.O. Box 493, Pleasanton, CA 94566.
6198 | National Chemicals Inc., 105 Liberty Street, P.O. Box 32, Winona, MN 55987.
6243 | Auto-Chlor System, 746 Poplar Avenue, Memphis, TN 38105.
6718 | Access Business Group International LLC, 7575 E. Fulton Road, MC 50-1A, Ada, MI 49355.
6836 | Lonza Inc., 90 Boroline Road, Allendale, NJ 07401.
7124 | Alden Leeds Inc., 55 Jacobus Avenue, South Kearny, NJ 07032.
7364 | GLB Pool & Spa, 90 Boroline Road, Allendale, NJ 07401.
7405 | CPC Aeroscience, Inc., P.O. Box 667770, Pompano Beach, FL 33066.
8155 | Canberra Corporation, 3610 N. Holland-Sylvania Road, Toledo, OH 43615.
9613 | Bison Labs Inc., 80 Leslie Street, Buffalo, NY 14211.
9688 | Chemsico, P.O. Box 142642, St. Louis, MO 63114.
9886 | IFF Chemical Holdings, Inc., 2051 North Lane Avenue, Jacksonville, FL 32254.
10088 | Athea Laboratories Inc., P.O. Box 240014, Milwaukee, WI 53224.
10324 | Mason Chemical Company, 723 W. Algonquin Road, Suite B, Arlington Heights, IL 60005.
11668 | T & R Chemicals, Inc., 700 Celum Road, Clint, TX 79836.
11694 | ITW Pro Brands, 805 East Old 56 Highway, Olathe, KS 66061.
15136 | Medical Chemical Corp., 19430 Van Ness Ave., Torrance, CA 90501.
15300 | Chemtreat, Inc., 5640 Cox Road, Glen Allen, VA 23060.
39967 | Lanxess Corporation, 111 RIDC Park West Drive, Pittsburgh, PA 15275.
41550 | RPS Products Inc., 281 Keyes Avenue, Hampshire, IL 60140.
47033 | Cascade Water Services, Inc., 113 Bloomingdale Road, Hicksville, NY 11801.
47371 | H&S Chemicals Division, 90 Boroline Road, Allendale, NJ 07401.
49827 | Pine Glo Products, Inc., 414 S. Main Street, P.O. Box 429, Rolesville, NC 27571.
51219 | The Rectorseal Corp., 2601 Spenwick Drive, Houston, TX 77055.
53053 | Indusco Ltd., 12733 Director's Loop, Woodbridge, VA 22192.
55195 | Colcide, Inc., 12549 Ansin Circle Drive, Potomac, MD 20854.
58044 | Parkway Research, 2935 South Koke Mill Road, Springfield, IL 62711.
60061 | Kop-Coat, Inc, 436 Seventh Avenue, Pittsburgh, PA 15219.
66243 | Clean Control Corp., 5145 Forest Run Trace—Suite B, Alpharetta, GA 30022.
67619 | Clorox Professional Products Co, C/O PS&RC, P.O. Box 493, Pleasanton, CA 94566.
70627 | Diversey, Inc., 8310 16th Street, MS 707, Sturtevant, WI 53177.
74655 | Solenis, LLC., 7910 Baymeadows Way, Suite 100, Jacksonville, FL 32256.
84398 | CZL, LLC, P.O. Box 339, Calhoun, GA 30703.
86130 | Flowchem Technologies, 289 Cutlass LP, Rayne, LA 70578.

III. What is the Agency's authority for taking this action?

Section 6(f)(1) of FIFRA (7 U.S.C. 136d(f)(1)) provides that a registrant of a pesticide product may at any time request that any of its pesticide registrations be canceled. FIFRA further provides that, before acting on the request, EPA must publish a notice of receipt of any such request in the Federal Register. Thereafter, the EPA Administrator may approve such a request.

Section 6(f)(1)(B) of FIFRA (7 U.S.C. 136d(f)(1)(B)) requires that before acting on a request for voluntary cancellation, EPA must provide a 30-day public comment period on the request for voluntary cancellation or use termination. In addition, FIFRA section 6(f)(1)(C) (7 U.S.C. 136d(f)(1)(C)) requires that EPA provide a 180-day comment period on a request for voluntary cancellation or termination of any minor agricultural use before granting the request, unless:

1. The registrants request a waiver of the comment period, or

2. The EPA Administrator determines that continued use of the pesticide would pose an unreasonable adverse effect on the environment.

None of the registrations in Table 1 and Table 2 of Unit II. are for minor agricultural use. Accordingly, EPA will provide a 30-day comment period on the proposed requests.

IV. Procedures for Withdrawal of Request

Registrants who choose to withdraw a request for cancellation or use deletion must submit such withdrawal in writing to the person listed under FOR FURTHER INFORMATION CONTACT. If the products have been subject to a previous cancellation action, the effective date of cancellation and all other provisions of any earlier cancellation action are controlling.

V. Provisions for Disposition of Existing Stocks

Existing stocks are those stocks of registered pesticide products that are currently in the United States and that were packaged, labeled, and released for shipment prior to the effective date of the cancellation action. EPA proposes to include the following provisions for the treatment of any existing stocks of the products listed in Table 1 and Table 2 of Unit II.

A. For Products 10324-64, 10324-73, 10324-79, 10324-82, 10324-83, 10324-84, 10324-86, 10324-109, 10324-131, 10324-134, 10324-144, 10324-146, 10324-147, 10324-163, 10324-168, 10324-179, 10324-180, 10324-181, 10324-189, 10324-190, 10324-191, 10324-192, 10324-213, 10324-215, 10324-216

The registrant has requested to the Agency via letter to sell existing stocks for an 18-month period for products 10324-64, 10324-73, 10324-79, 10324-82, 10324-83, 10324-84, 10324-86, 10324-109, 10324-131, 10324-134, 10324-144, 10324-146, 10324-147, 10324-163, 10324-168, 10324-179, 10324-180, 10324-181, 10324-189, 10324-190, 10324-191, 10324-192, 10324-213, 10324-215, 10324-216. Because the Agency has identified no significant potential risk concerns associated with these pesticide products, upon cancellation, EPA anticipates allowing registrants to sell and distribute existing stocks of these products for 1 year and 6 months after publication of the Cancellation Order in the Federal Register. Thereafter, registrants will be prohibited from selling or distributing the pesticides identified in Table 1 of Unit II., except for export consistent with FIFRA section 17 or for proper disposal. Persons other than registrants will generally be allowed to sell, distribute, or use existing stocks until such stocks are exhausted, provided that such sale, distribution, or use is consistent with the terms of the previously approved labeling on, or that accompanied, the canceled products.

B. For All Other Products Identified in Table 1 and Table 2 of Unit II.

Because the Agency has identified no significant potential risk concerns associated with these pesticide products, upon cancellation of the products or uses identified in Table 1 and Table 2 of Unit II., EPA anticipates allowing registrants to sell and distribute existing stocks of these products for 1 year after publication of the Cancellation Order in the Federal Register. Thereafter, registrants will be prohibited from selling or distributing the pesticides identified in Table 1 and Table 2 of Unit II., except for export consistent with FIFRA section 17 (7 U.S.C. 136o) or for proper disposal. Persons other than registrants will generally be allowed to sell, distribute, or use existing stocks until such stocks are exhausted, provided that such sale, distribution, or use is consistent with the terms of the previously approved labeling on, or that accompanied, the canceled products.

Authority: 7 U.S.C. 136 et seq.

Dated: July 11, 2016.
Steve Knizner,
Director, Antimicrobials Division, Office of Pesticide Programs.

[FR Doc. 2016-17266 Filed 7-20-16; 8:45 am]

BILLING CODE 6560-50-P